ENVIRONMENTAL PROTECTION AGENCY

[EPA-HQ-OAR-2006-0407; FRL-9941-79-OEI]

Information Collection Request Submitted to OMB for Review and Approval; Comment Request; EPA's ENERGY STAR Program in the Commercial and Industrial Sectors (Revision)

AGENCY: Environmental Protection Agency (EPA).

ACTION: Notice.

SUMMARY: The Environmental Protection Agency has submitted an information collection request (ICR), “EPA's ENERGY STAR Program in the Commercial and Industrial Sectors” (EPA ICR No. 1772.07, OMB Control No. 2060-0347) to the Office of Management and Budget (OMB) for review and approval in accordance with the Paperwork Reduction Act (44 U.S.C. 3501 et seq.). This is a proposed revision of the ICR, which is currently approved through March 31, 2016. Public comments were previously requested via the Federal Register (80 FR 43770) on July 23, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 14, 2016.

ADDRESSES: Submit your comments, referencing Docket ID Number EPA-HQ-OAR-2006-0407, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Stephanie Klein, Climate Protection Partnerships Division, Mail Code: 6202A, Environmental Protection Agency, 1200 Pennsylvania Ave. NW., Washington, DC 20460; telephone number: 202-343-9144; fax number: 202-343-2204; email address: klein.stephanie@epa.gov.

SUPPLEMENTARY INFORMATION: Supporting documents which explain in detail the information that the EPA will be collecting are available in the public docket for this ICR. The docket can be viewed online at www.regulations.gov or in person at the EPA Docket Center, WJC West Building, Room 3334, 1301 Constitution Ave. NW., Washington, DC. The telephone number for the Docket Center is 202-566-1744. For additional information about EPA's public docket, visit http://www.epa.gov/dockets.

Abstract: EPA created ENERGY STAR as a voluntary program to help businesses and individuals protect the environment through superior energy efficiency. The program focuses on reducing utility-generated emissions by reducing the demand for energy. In 1991, EPA launched the Green Lights Program to encourage corporations, state and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR Awards Program).

To join ENERGY STAR, organizations are asked to complete a Partnership Letter or Agreement that establishes their commitment to energy efficiency. Partners agree to undertake efforts such as measuring, tracking, and benchmarking their organization's energy performance by using tools such as those offered by ENERGY STAR; developing and implementing a plan to improve energy performance in their facilities and operations by adopting a strategy provided by ENERGY STAR; and educating staff and the public about their Partnership with ENERGY STAR, and highlighting achievements with the ENERGY STAR, where available. In addition, Partners and any other interested party can evaluate the efficiency of their buildings using EPA's online tools (e.g., Portfolio Manager) and apply for recognition.

Form numbers: 5900-19, 5900-21, 5900-22, 5900-33, 5900-89, 5900-195, 5900-197, 5900-198, 5900-262, 5900-263, 5900-264, 5900-265, 5900-375, 5900-376, 5900-377, 5900-378, 5900-379, 5900-380, 5900-381, 5900-382, 5900-383, 5900-384, 5900-385, 5900-386, and 5900-387.

Respondents/affected entities: Entities affected by this action are participants in EPA's ENERGY STAR Program in the Commercial and Industrial Sectors.

Respondent's obligation to respond: Voluntary.

Estimated number of respondents: 51,515 (total).

Frequency of response: One-time, annually, or on occasion.

Total estimated burden: 254,084 hours (per year). Burden is defined at 5 CFR 1320.03(b)

Total estimated cost: $21,784,161 (per year), includes $10,827,727 in annualized capital or operation & maintenance costs.

Changes in the estimates: There is an increase of 59,575 hours in the total estimated respondent burden compared with the ICR currently approved by OMB. This increase is due to program growth.

Courtney Kerwin,
Acting Director, Collection Strategies Division.

[FR Doc. 2016-02919 Filed 2-11-16; 8:45 am]

BILLING CODE 6560-50-P